FEDERAL COMMUNICATIONS COMMISSION

[GN Docket No. 17-83]

Meeting of the Broadband Deployment Advisory Committee

AGENCY: Federal Communications Commission.

ACTION: Notice. 17-83.

SUMMARY: In this document, the FCC announces and provides an agenda for the next meeting of Broadband Deployment Advisory Committee (BDAC).

DATES: Thursday, December 6, 2018 and Friday, December 7, 2018. The meeting will come to order at 9:00 a.m. each day.

ADDRESSES: Federal Communications Commission, 445 12th Street SW, Room TW-C305, Washington, DC 20554.

FOR FURTHER INFORMATION CONTACT: Paul D'Ari, Designated Federal Authority (DFO) of the BDAC, at paul.dari@fcc.gov or 202-418-1550; Jiaming Shang, Deputy DFO of the BDAC, at jiaming.shang@fcc.gov or 202-418-1303; or Deborah Salons, Deputy DFO of the BDAC, at deborah.salons@fcc.gov or 202-418-0637. The TTY number is: (202) 418-0484.

SUPPLEMENTARY INFORMATION: This meeting is open to members of the general public. The FCC will accommodate as many participants as possible; however, admittance will be limited to seating availability. The FCC will also provide audio and/or video coverage of the meeting over the internet from the FCC's web page at www.fcc.gov/live. Oral statements at the meeting by parties or entities not represented on the BDAC will be permitted to the extent time permits, at the discretion of the BDAC Chair and the DFO. Members of the public may submit comments to the BDAC in the FCC's Electronic Comment Filing System, ECFS, at www.fcc.gov/ecfs. Comments to the BDAC should be filed in Docket 17-83.

Open captioning will be provided for this event. Other reasonable accommodations for people with disabilities are available upon request. Requests for such accommodations should be submitted via email to fcc504@fcc.gov or by calling the Consumer & Governmental Affairs Bureau at (202) 418-0530 (voice), (202) 418-0432 (TTY). Such requests should include a detailed description of the accommodation needed. In addition, please include a way for the FCC to contact the requester if more information is needed to fill the request. Please allow at least five days' advance notice; last minute requests will be accepted but may not be possible to accommodate.

Proposed Agenda: At this meeting, the BDAC will continue considering and will vote on the Model Code for States, and it will hear a status report from the Disaster Response and Recovery Working Group. This agenda may be modified at the discretion of the BDAC Chair and the Designated Federal Officer (DFO).

Federal Communications Commission.
Daniel Kahn,
Chief, Competition Policy Division, Wireline Competition Bureau.

[FR Doc. 2018-25102 Filed 11-16-18; 8:45 am]

BILLING CODE 6712-01-P